ENVIRONMENTAL PROTECTION AGENCY

40 CFR Part 52

[MD131-3091a; FRL-7503-7]

Approval and Promulgation of Air Quality Implementation Plans, Maryland; Amendments to the Control of Volatile Organic Compounds From Chemical Production and Polytetrafluoroethylene Installations

AGENCY: Environmental Protection Agency (EPA).

ACTION: Direct final rule.

SUMMARY: EPA is taking direct final action to approve revisions to the Maryland State Implementation Plan (SIP). The revisions consist of amendments to Maryland's air pollution control regulations governing specific processes that emit volatile organic compounds (VOC). These requirements initially included organic chemicals and are being expanded to include inorganic chemicals and polytetrafluoroethylene (PTFE) products. The revisions also include establishment of a VOC content limit for PTFE coating installations and clarification of applicability thresholds. EPA is fully approving these revisions in accordance with the requirements of the Clean Air Act.

DATES: This rule is effective on August 4, 2003, without further notice, unless EPA receives adverse written comments by July 3, 2003. If EPA receives such comments, it will publish a timely withdrawal of the direct final rule in the Federal Register and inform the public that the rule will not take effect.

ADDRESSES: Written comments should be mailed to Makeba Morris, Branch Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108,Washington, DC 20460; and Maryland Department of the Environment, 1800 Washington Blvd., Suite 730, Baltimore, Maryland 21230.

FOR FURTHER INFORMATION CONTACT: Betty Harris, (215) 814-2168, or by e-mail at harris.betty@epa.gov.

SUPPLEMENTARY INFORMATION:

I. Background

On December 6, 2001 and November 6, 2002, the State of Maryland submitted formal revisions to its State Implementation Plan (SIP). The SIP revisions, submitted by the Maryland Department of the Environment (MDE), consist of amended volatile organic compound requirements to specific processes Code of Maryland Administrative Regulations (COMAR) 26.11.19. The December 6, 2001 revision (#01-15) was published in the Maryland Register on September 21, 2001, a public hearing was held on October 23, 2001, adopted on November 6, 2001 and became effective on December 10, 2001. The November 6, 2002 revision (#02-07) was published in the Maryland Register on August 9, 2002, a public hearing was held on September 11, 2002, adopted on October 3, 2002 and became effective on November 11, 2002.

II. Summary of SIP Revision

(A) On December 6, 2001, MDE submitted amendments to COMAR 26.11.19.30. The existing regulation establishes reasonably available control technology (RACT) for chemical plants that produce organic chemicals. The revised regulation is being expanded to include VOC requirements for chemical production facilities and PTFE products facilities.

(1) The revisions to COMAR 26.11.19.30B add the following definitions: (a) Dipping trough, (b) inorganic chemical production installation, (c) PTFE, (d) PTFE installation, and (e) product condenser.

(2) COMAR 26.11.19.30C, which addresses applicability, is revised to include inorganic chemical production installations and PTFE installations.

(3) COMAR 26.11.19.30D is revised to address general requirements for both organic and inorganic chemical production facilities. In addition, the date to implement good operating practice and procedures is revised from March 30, 2001 to March 30, 2002.

(4) COMAR 26.11.19.30E is revised to create general requirements for PTFE installations. These requirements are as follows: (a) A person who owns or operates a PTFE installation that has uncontrolled VOC emissions of 50 pounds or more per day shall vent the emissions into a thermal oxidizer or use other approved methods to destroy or reduce VOC emissions by 85 percent or more. (b) If a thermal oxidizer is installed, the oxidizer combustion chamber shall be operated at a specified minimum temperature that is demonstrated to achieve compliance with the regulation. In addition, the thermal oxidizer combustion chamber should be equipped with a continuous temperature monitor, an alarm system for safety, and with an interlock system. (c) If a source uses an approved alternative control method, it shall be monitored. (d) Emission treatment or monitoring equipment shall be operated, maintained and calibrated in accordance with the equipment vendor's specifications. (e) A person who owns or operates a PTFE compounding and tape or shape-forming installation shall minimize fugitive VOC emissions by enclosing all wet PTFE and covering dipping troughs when not in operation.

(B) On November 6, 2002, MDE submitted amendments to COMAR 26.11.19.30. These amendments include (a) Minor modification to the definition of PTFE, (b) Deletion of the definition of PTFE installation, and (c) The addition of definitions for PTFE coating installation, PTFE process installation and total actual uncontrolled VOC emissions. In addition, these amendments clarify applicability requirements for PTFE coating and process installations found at COMAR 26.11.19.30C. COMAR 26.11.19.30E is modified to address general requirements for PTFE process installations and to add requirements for PTFE coating installation. The new PTFE coating installation requirement states that an installation that has actual uncontrolled VOC emissions of 20 pounds or more per day may not use a coating that has a VOC content exceeding 2.9 pounds per gallon unless it is equipped with a control device that meets specified requirements. These new requirements comport with EPA standards for coating operations.

III. Final Action

EPA is approving SIP revisions submitted by MDE on December 6, 2001 and November 6, 2002. The amendments establish specific VOC requirements for the production facilities that produce organic, inorganic chemicals and PTFE products. EPA is publishing this rule without prior proposal because the Agency views this as a noncontroversial amendment and anticipates no adverse comment. However, in the “Proposed Rules” section of today's Federal Register, EPA is publishing a separate document that will serve as the proposal to approve the SIP revision if adverse comments are filed. This rule will be effective on August 4, 2003, without further notice unless EPA receives adverse comment by July 3, 2003. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by August 4, 2003. Filing a petition for reconsideration by the Administrator of this final rule does not affect the finality of this rule for the purposes of judicial review nor does it extend the time within which a petition for judicial review may be filed, and shall not postpone the effectiveness of such rule or action. This action pertains to Maryland's amendments to VOC requirements from chemical production and PTFE installations and may not be challenged later in proceedings to enforce its requirements. (See section 307(b)(2).)

List of Subjects in 40 CFR Part 52

Environmental protection, Air pollution control, Incorporation by reference, Intergovernmental relations, Reporting and recordkeeping requirements, Volatile organic compounds.

Dated: May 20, 2003.
Abraham Ferdas,
Acting Regional Administrator, Region III.

40 CFR part 52 is amended as follows:

PART 52—[AMENDED]

1. The authority citation for part 52 continues to read as follows:

Authority: 42 U.S.C. 7401 et seq.

Subpart V—Maryland

2. Section 52.1070 is amended by adding paragraph (c)(176) to read as follows:

§ 52.1070 Identification of plan.

* * * * *

(c) * * *

(176) Revisions to the Maryland State Implementation Plan submitted by the Maryland Department of the Environment:

(i) Incorporation by reference.

(A) Letter of December 6, 2001 from the Maryland Department of the Environment transmitting revisions to Maryland's State Implementation Plan concerning VOC requirements for facilities that produce inorganic chemicals and polytetrafluoroethylene (PTFE) products.

(B) The following revisions to Code of Maryland Administrative Regulation (COMAR) 26.11.19.30 (Control of Volatile Organic Compounds from Chemical Production and Polytetrafluoroethylene Installations), effective December 10, 2001:

(1) Revised title for COMAR 26.11.19.30.

(2) Addition of paragraphs .30B(3-1), .30B(3-2), .30B(4-1), .30B(4-2), .30B(5)(b), and .30E(1) through (5) inclusive.

(3) Renumbering of former paragraphs .30B(5), .30C(3), and .30E(1) as paragraphs .30B(5)(a), .30C(2) and .30F respectively.

(4) Revisions to paragraphs .30C(1), renumbered .30C(2), .30D. (paragraph title), .30D(1), .30D(2), .30D(3), .30D(4) (introductory paragraph) and .30F.

(5) Removal of former paragraphs .30C(2) and .30E(2).

(C) Letter of November 6, 2002 from the Maryland Department of the Environment transmitting revisions to Maryland's State Implementation Plan concerning VOC requirements for facilities that produce inorganic chemicals and polytetrafluoroethylene (PTFE) products.

(D) The following revisions to Code of Maryland Administrative Regulation (COMAR) 26.11.19.30 (Control of Volatile Organic Compounds from Chemical Production and Polytetrafluoroethylene Installations), effective November 11, 2002:

(1) Revisions to paragraphs .30B(4-1), .30B(4-2), .30C(2), .30C(3), and .30E(1).

(2) Addition of paragraphs .30B(4-3), .30B(4-4), and .30E(6).

(ii) Additional Material.—Remainder of the State submittal pertaining to the revision listed in paragraph (c)(176)(i) of this section.

[FR Doc. 03-13700 Filed 6-2-03; 8:45 am]

BILLING CODE 6560-50-P